DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska American Fisheries Act (AFA) Permits.

OMB Control Number: 0648-0393.

Form Number(s): None.

Type of Request: Regular (extension of a currently approved information collection).

Number of Respondents: 27.

Average Hours per Response: 30 minutes for Application for AFA Permit Application: Rebuild, Replace, or Remove Vessel; 2 hours for Application for AFA Inshore Catcher Vessel Cooperative Permit; 4 hours for Vessel Contract Fishing Notification; 8 hours for Application for Approval as an Entity Eligible to Receive Transferable Chinook Salmon PSC Allocation; 1 hour for Application to Transfer of Bering Sea Chinook Salmon PSC Allocation.

Burden Hours: 135.

Needs and Uses: This request is for extension of a currently approved information collection.

National Marine Fisheries Service (NMFS) and the North Pacific Fishery Management Council developed regulations under the Magnuson-Stevens Act and the American Fisheries Act (AFA) to govern commercial fishing for Bering Sea and Aleutian Islands Management Area (BSAI) pollock according to the requirements of the AFA. These regulations are necessary to achieve the AFA's objective of decapitalization and rationalization of the BSAI pollock fishery.

With exceptions noted below, all participants in the AFA pollock fishery are already permitted and the permits are issued with an indefinite expiration date. The permanent AFA permits are: AFA catcher vessel, AFA catcher/processor, AFA mothership, and AFA inshore processor. The permit exceptions are issued annually—the inshore vessel cooperative permit and inshore vessel contract fishing permit. In addition, the AFA vessel replacement application may be submitted to NMFS at any time.

Affected Public: Business or other for-profit organizations.

Frequency: Annually and on occasion.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: September 1, 2016.
Sarah Brabson,
NOAA PRA Clearance Officer.

[FR Doc. 2016-21405 Filed 9-6-16; 8:45 am]

BILLING CODE 3510-22-P